ENVIRONMENTAL PROTECTION AGENCY

[FRL-9924-50-OCFO]

Meeting of the Environmental Financial Advisory Board—Public Notice

AGENCY: Environmental Protection Agency (EPA).

ACTION: Notice of open meeting of the Environmental Financial Advisory Board.

SUMMARY: The United States Environmental Protection Agency's (USEPA) Environmental Financial Advisory Board (EFAB) will hold a public meeting on May 14-15, 2015. EFAB is an EPA advisory committee chartered under the Federal Advisory Committee Act (FACA) to provide advice and recommendations to EPA on creative approaches to funding environmental programs, projects, and activities.

The purpose of this meeting is to hear from informed speakers on environmental finance issues, proposed legislation, and EPA priorities; to discuss activities, progress, and preliminary recommendations with regard to current EFAB work projects; and to consider requests for assistance from EPA offices.

Environmental finance discussions and presentations are expected on, but not limited to, the following topics: Water infrastructure financing; financing operations and maintenance at green sites; and EPA's Water Infrastructure and Resiliency Financing Center.

The meeting is open to the public; however, seating is limited. All members of the public who wish to attend the meeting must register, in advance, no later than Friday, May 1, 2015. Registration is required for all members of the public to assure an expeditious security process.

DATES: The full board meeting will be held on Thursday, May 14, 2015 from 1:00 p.m. to 5 p.m., EDT and Friday, May 15, 2015 from 9:00 a.m. to 5 p.m., EDT.

ADDRESSES: District of Columbia Water and Sewer Authority, 5000 Overlook Drive, Washington, DC 20005.

FOR FURTHER INFORMATION CONTACT: For information on access or services for individuals with disabilities, or to request accommodations for a person with a disability, please contact Sandra Williams, U.S. EPA, at (202) 564-4999 or williams.sandra@epa.gov, at least 10 days prior to the meeting, to allow as much time as possible to process your request.

Dated: March 6, 2015.
David Bloom,
Acting Chief Financial Officer.

[FR Doc. 2015-06215 Filed 3-17-15; 8:45 am]

BILLING CODE 6560-50-P